DEPARTMENT OF THE INTERIOR

Bureau of Land Management

[NV-930-1430-ET; NVN-35951, 4-08807]

Notice of Proposed Extension of Withdrawal and Opportunity for Public Meeting; Nevada

AGENCY: Bureau of Land Management, Interior.

ACTION: Notice of withdrawal.

SUMMARY: The United States Air Force proposes to extend a withdrawal 200 acres of public land withdrawn to protect an administrative/communication site in Nye County. The withdrawal being extended is Public Land Order No. 6591. This withdrawal will expire on April 11, 2005, unless extended. The land is currently withdrawn from surface entry and mining, but not the mineral leasing laws, by Public Land Order No. 6591.

DATES: Comments and requests for a meeting should be received on or before April 5, 2004.

ADDRESSES: Comments and meeting requests should be sent to the Nevada State Director, BLM, 1340 Financial Blvd., PO Box 12000, Reno, Nevada 89520.

FOR FURTHER INFORMATION CONTACT: Dennis J. Samuelson, BLM Nevada State Office, 702-861-6532.

SUPPLEMENTARY INFORMATION: The United States Air Force has filed an application to extend Public Land Order No. 6591 200 acres of public land withdrawn to protect an administrative/communication site (Public Land Order No. 6591, 50 FR 10965-10966, FR Doc. 85-6479, March 19, 1985). An extension, if approved, would continue the withdrawal from all forms of appropriation, including the mining laws, but not the mineral leasing laws, for the following described pubic land known as Parcel B:

Mount Diablo Meridian

T. 7 N., R. 52 E., sec. 5, (within). sec. 8, (within) sec. 17, (within)

T. 8 N., R. 52 E., sec. 32, (within).

The area described contains 200 acres in Nye County. See Public Land Order No. 6591 for a detailed metes and bounds description for Parcel B (Note: The withdrawal for Parcel A is not included in this notice).

The Air Force proposes to extend the withdrawal an additional 20 years through April 11, 2025. The extension of the withdrawal would protect a facility used for the safe and secure operation of national defense activities on the Nevada Test and Training Range.

This withdrawal extension will be processed in accordance with the regulations set forth in 43 CFR 2300.

For a period of 90 days from the date of publication of this notice, all persons who wish to submit comments, suggestions, or objections in connection with the proposed withdrawal extension may present their views in writing to the Nevada State Director of the Bureau of Land Management.

Notice is hereby given that an opportunity for a public meeting is afforded in connection with the proposed withdrawal extension. All interested persons who desire a public meeting for the purpose of being heard on the proposed extension must submit a written request to the Nevada State Director within 90 days from the date of publication of this notice. Upon determination by the authorized officer that a public meeting will be held, a notice of the time and place will be published in the Federal Register and at least one local newspaper 30 days before the scheduled date of the meeting.

Comments, including names and street addresses of commenters, will be available for public review at the Tonopah Field Station, 1553 South Main Street, Tonopah, Nevada, during regular business hours 7:30 a.m. to 4:30 p.m., Monday through Friday, except holidays. Individual respondents may request anonymity. If you wish to hold your name or address from public review or from disclosure under the Freedom of Information Act, you must state this prominently at the beginning of your comments. Such requests will be honored to the extent allowed by law. All submissions from organizations or businesses, will be made available for public inspection in their entirety.

Dated: November 26, 2003.
Jim Stobaugh,
Lands Team Lead.

[FR Doc. 04-97 Filed 1-2-04; 8:45 am]

BILLING CODE 4310-HC-P